DEPARTMENT OF AGRICULTURE

Animal and Plant Health Inspection Service

7 CFR Parts 319 and 340

[Docket No. APHIS-2008-0011]

RIN 0579-AD75

Restructuring of Regulations on the Importation of Plants for Planting

AGENCY: Animal and Plant Health Inspection Service, USDA.

ACTION: Proposed rule; reopening of comment period and notice of public presentation.

SUMMARY: We are reopening the comment period for our proposed rule that would restructure the regulations governing the importation of plants for planting. This action will allow interested persons additional time to prepare and submit comments. We are also giving notice of a conference call and Web presentation in which we will provide participants with an overview of the proposed rule.

DATES: The comment period for the proposed rule published April 25, 2013 (78 FR 24634) is reopened. We will consider all comments that we receive on or before September 10, 2013. The conference call and Web presentation will be held on August 14, 2013, from 3 p.m. to 5 p.m. EDT.

ADDRESSES: You may submit comments by either of the following methods:

• Federal eRulemaking Portal: Go to http://www.regulations.gov/#!documentDetail;D=APHIS-2008-0011-0001.

• Postal Mail/Commercial Delivery: Send your comment to Docket No. APHIS-2008-0011, Regulatory Analysis and Development, PPD, APHIS, Station 3A-03.8, 4700 River Road Unit 118, Riverdale, MD 20737-1238.

Supporting documents and any comments we receive on this docket may be viewed at http://www.regulations.gov/#!docketDetail;D=APHIS-2008-0011 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Heather Coady, Regulatory Policy Specialist, Plants for Planting Policy, PPQ, APHIS, 4700 River Road Unit 133, Riverdale, MD 20737; (301) 851-2076.

SUPPLEMENTARY INFORMATION: On April 25, 2013, we published in the Federal Register (78 FR 24634-24663, Docket No. APHIS-2008-0011) a proposal that would restructure the regulations governing the importation of plants for planting in 7 CFR part 319.

Comments on the proposed rule were required to be received on or before June 24, 2013. We are reopening the comment period on Docket No. APHIS-2008-0011 for an additional 60 days. This action will allow interested persons additional time to prepare and submit comments. We will also consider all comments received between June 24, 2013, and the date of this notice.

In addition, we are providing notice of a conference call and Web presentation in which we will provide participants with an overview of the proposed rule. This event will be held on August 14, 2013, from 3 p.m. to 5 p.m. EDT. Although we will answer questions about the proposal during this event, we will not be soliciting or addressing any comments on the rule. Comments on the proposed rule may be submitted as described in the ADDRESSES section of this document.

If you are interested in participating in this event, please register at https://web01.aphis.usda.gov/MeetingReg.nsf/MtgRegistration?openform. Approximately 1 week before the event, registered participants will receive an email with a link to the Web presentation and conference line information. If you have any questions about the event, please contact the person listed under FOR FURTHER INFORMATION CONTACT by phone or by email at heather.s.coady@aphis.usda.gov.

Authority: 7 U.S.C. 450, 7701-7772, and 7781-7786; 21 U.S.C. 136 and 136a; 7 CFR 2.22, 2.80, and 371.3.

Done in Washington, DC, this 9th day of July 2013.
Michael C. Gregoire,
Acting Administrator, Animal and Plant Health Inspection Service.

[FR Doc. 2013-16762 Filed 7-11-13; 8:45 am]

BILLING CODE 3410-34-P